DEPARTMENT OF ENERGY

Federal Energy Regulatory Commission

[Docket No. CP11-91-000]

Monroe Gas Storage Company, LLC; Notice of Application

Take notice that on February 18, 2011, Monroe Gas Storage Company, LLC (Monroe), 3773 Cherry Creek North Drive, Suite 1000, Denver, CO 80209, filed pursuant to Section 7(c) of the Natural Gas Act (NGA) and Part 157 of the Commission's regulations, an abbreviated application for an amendment to its certificate of public convenience and necessity issued on December 21, 2007, Docket No. CP07-406-000; authorizing Monroe to make changes to the certificated design of the Monroe Gas Storage Project.

Specifically, through this Application, Monroe seeks authorization to (1) relocate the currently authorized Well MGS-6-E-H to a new well site and bottom hole location, and (2) convert the existing Well MGS-6 to an observation well. Monroe also requests an extension of time to place all of the project facilities into service to a date 90 days from the issued date of the order. In conjunction with these requests, Monroe proposes to change the designation of the relocated well from MGS-6-E-H to MGS-6-W-D and the converted well from MGS-6-E-H to MGS-O6.

Monroe states that the proposed amendment will not change its currently certificated authority to provide about 12.0 billion cubic feet (Bcf) of high-deliverability working gas storage capacity, with about 4.46 Bcf of base gas. Nor is any change proposed in Monroe's certificated capability for receiving and injecting gas at maximum rates of up to 445 million cubic feet per day (MMcf/d) and withdrawing and delivering gas at maximum rates of up to 465 MMcf/d.

Any questions regarding the application should be directed to Fred Witsell, Monroe Gas Storage Company, LLC, 3773 Cherry Creek North Drive, Suite 1000, Denver, CO 80209, (303) 815-1010, or Erik J.A. Swenson, Fulbright & Jaworski L.L.P., 801 Pennsylvania Avenue, NW., Washington, DC 20004-2623, (202) 622-4555.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: March 14, 2011.

Dated: February 28, 2011.
Kimberly D. Bose,
Secretary.

[FR Doc. 2011-4965 Filed 3-3-11; 8:45 am]

BILLING CODE 6717-01-P